DEPARTMENT OF TRANSPORTATION

Federal Railroad Administration

[Docket No. FRA-2014-0011-N-02]

Proposed Agency Information Collection Activities; Comment Request

AGENCY: Federal Railroad Administration (FRA), Department of Transportation (DOT).

ACTION: Notice.

SUMMARY: The information collection requirements described below will be submitted to the Office of Management and Budget (“OMB”) for review, as required by the Paperwork Reduction Act (“PRA”). FRA is seeking public comments on its proposal to renew its PRA clearance to participate in the OMB program “Generic Clearance for the Collection of Qualitative Feedback on Agency Service Delivery.” This program was created to facilitate federal agencies' efforts to streamline the process to seek public feedback on service delivery. Current FRA clearance under this program expires July 31, 2014.

DATES: Comments must be received no later than April 14, 2014.

ADDRESSES: Submit written comments on any or all of the following proposed activities by mail to Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0593.” Alternatively, comments may be transmitted via facsimile to (202) 493-6497, or via email to Ms. Toone at Kim.Toone@dot.gov. Please refer to the assigned OMB control number in any correspondence submitted. FRA will summarize comments received in response to this notice in a subsequent notice and include them in its information collection submission to OMB for approval.

FOR FURTHER INFORMATION CONTACT: Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: Executive Order 12862 (1993) (“Setting Customer Service Standards”) directed all Federal executive departments and agencies and requested independent Federal agencies to provide service to “customers” that matches or exceeds the best service available in the private sector. See also Executive Order 13571 (2011) (“Streamlining Service Delivery and Improving Customer Service”). For purposes of these orders, “customer” means an individual who or entity that is directly served by a department or agency. FRA seeks renewed OMB approval of a generic clearance to collect qualitative feedback on our service delivery (i.e., the products and services that FRA creates to help consumers and businesses understand their rights and responsibilities, including Web sites, blogs, videos, print publications, and other content).

Below is a brief summary of the information collection activity that FRA will submit for clearance by OMB as required under the PRA:

Title: Generic Clearance for the Collection of qualitative Feedback on Agency Service Delivery OMB Control Number: 2130-0593.

Status: Regular Review.

Type of Request: Extension without change of a previously approved collection.

Abstract: This collection of information is necessary to enable the Agency to garner customer and stakeholder feedback in an efficient, timely manner, in accordance with our commitment to improving service delivery. The information collected from our customers and stakeholders will help ensure that users have an effective, efficient, and satisfying experience with the Agency's programs. This feedback will provide insights into customer or stakeholder perceptions, experiences and expectations, provide an early warning of issues with service, or focus attention on areas where communication, training or changes in operations might improve delivery of products or services. These collections will allow for ongoing, collaborative and actionable communications between the Agency and its customers and stakeholders. It also allows feedback to contribute directly to the improvement of program management.

Improving agency programs requires ongoing assessment of service delivery, by which we mean systematic review of the operation of a program compared to a set of explicit or implicit standards, as a means of contributing to the continuous improvement of the program. The Agency will collect, analyze, and interpret information gathered through this generic clearance to identify strengths and weaknesses of current services and make improvements in service delivery based on feedback. The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance if it meets the following conditions:

• Information gathered will be used only internally for general service improvement and program management purposes and is not intended for release outside of the agency (if released, procedures outlined in Question 16 will be followed);

• Information gathered will not be used for the purpose of substantially informing influential policy decisions;

• Information gathered will yield qualitative information; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future; and

• With the exception of information needed to provide remuneration for participants of focus groups and cognitive laboratory studies, personally identifiable information (PII) is collected only to the extent necessary and is not retained.

Affected Public: Individuals and Households, Business and Organizations, State, Local or Tribal Governments.

Frequency of Submission: Once per request.

Total Annual Number of Respondents: 2100.

Total Estimated Responses: 2100.

Average Minutes per Response: 10 minutes.

Total Annual Burden Hours: 354 hours.

Authority: 44 U.S.C. 3501-3520.

Issued in Washington, DC on February 6, 2014.
Rebecca Pennington,
Chief Financial Officer.

[FR Doc. 2014-03054 Filed 2-11-14; 8:45 am]

BILLING CODE 4910-06-P